FEDERAL MARITIME COMMISSION

46 CFR Part 501

[Docket No. FMC-2024-0007]

RIN 3072-AD01

Agency Seal

AGENCY: Federal Maritime Commission.

ACTION: Direct final rule.

SUMMARY: The Federal Maritime Commission (FMC or “the Commission”) is codifying its description of the Commission's seal and prescribing requirements for when the seal can be used. Use by any outside person or organization may be made only with FMC's prior written approval. Wrongful use of an official seal is subject to administrative action and/or criminal penalty.

DATES: This rule is effective October 15, 2024 without further action unless a significant adverse comment is received by September 12, 2024. If a significant adverse comment is received, FMC will publish a timely withdrawal of the rule in the Federal Register.

Commenters should be aware that Regulations.gov will only accept comments submitted prior to midnight Eastern Time on the last day of the comment period. The Commission is not obligated to consider comments submitted after the deadline.

ADDRESSES: You may submit comments on the direct final rule to the Commission by using the Federal eRulemaking Portal at www.regulations.gov, under Docket No. FMC-2024-0007. The most helpful comments explain the reason for any recommended change and include data, information, and the authority that supports the recommended change.

FOR FURTHER INFORMATION CONTACT: David Eng, Secretary; Phone: (202) 523-5725; Email: secretary@fmc.gov.

SUPPLEMENTARY INFORMATION:

I. Background

The Federal Maritime Commission is an independent agency in the executive branch of the United States Government which is responsible for regulating the U.S. international ocean transportation system for the benefit of U.S. exporters, importers, and the U.S. consumer. Section 201(c) of the Merchant Marine Act, 1936, as amended (46 U.S.C. 46101(d)), provides that the Commission shall have an official seal, and that such seal shall be judicially recognized. The Commission adopted its seal on August 14, 1961. Use of agency seals is governed by 18 U.S.C. 506, which prohibits the use of agency seals except as authorized under regulations made pursuant to law. This proscription is intended to protect the public against the use of a recognizable assertion of authority with intent to deceive (U.S. v. Goeltz, 513 F.2d 193 (C.A. Utah 1975), cert. den. 423 U.S. 830).

The FMC seal was previously codified at 46 CFR 501.11. The Commission removed the seal from the Code of Federal Regulations on September 10, 2021 (86 FR 50679). Since that time, the official description of the seal has been published on the FMC's website.¹ The FMC is re-codifying the seal's description to provide clear and direct legal evidence of the seal. Having the description in the Code of Federal Regulations provides direct evidence of the official description of the seal and eliminates the possibility, however unlikely, of there being questions over the official version. This is helpful not only in daily administration of agency business, but also should the need arise to enforce prohibitions in Title 18 of the United States Code regarding misuse of the seal.

¹ https://www.fmc.gov/about/fmc-history/#the-fmc-seal.

In addition to codification of the description of the seal, the Commission is establishing standards regarding the use of the Commission's seal by both the agency itself and outside persons and organizations. The previous codification of the agency seal did not include provisions for the authorization of use. It is beneficial to the agency and the public to have such standards clearly stated and in an easily accessible location. There have been recent occurrences of use of the seal by outside parties that FMC believes is misuse of the seal. Having a codified policy will help to ensure that the seal is used for lawful purposes only.

II. Direct Final Rule

A direct final rule is a final rule that does not go through proposed rulemaking first. We use direct final rulemaking when we expect that the rule will generate no significant adverse comments. We are issuing a direct final rule because we expect this regulatory change to be entirely non-controversial. Accordingly, in accordance with 5 U.S.C. 553(b)(B), the Commission has for good cause determined that the notice and comment requirements are unnecessary. However, to be certain that we are correct, we set the comment period to end before the effective date. If we receive a significant adverse comment, we will withdraw the direct final rule before it becomes effective. For purposes of this rulemaking, a significant adverse comment is one that explains (1) why the rule is inappropriate, including challenges to the rule's underlying premise or approach; or (2) why the rule will be ineffective or unacceptable without a change. In determining whether a significant adverse comment necessitates withdrawal of this direct final rule, the FMC will consider whether the comment raises an issue serious enough to warrant a substantive response had it been submitted in a standard notice-and-comment process. A comment recommending a change to the rule will not be considered significant and adverse unless the comment explains how this direct final rule would be ineffective or unacceptable without the change.

Public Participation

Please note that all comments received are considered part of the public record and will be made available for public inspection at https://www.regulations.gov. Such information includes personally identifiable information (“PII”) (such as your name and address). Any PII that is submitted is subject to being posted to the publicly accessible https://www.regulations.gov site without redaction. The Commission will not accept anonymous comments.

The Commission may withhold from public viewing information provided in comments that it determines may impact the privacy of an individual, is offensive, or raises copyright or other legal concerns. For additional information, please read the Privacy Act notice that is available via the link in the footer of https://www.regulations.gov.

How do I submit confidential business information?

The Commission will provide confidential treatment for identified confidential information to the extent allowed by law. If you would like to request confidential treatment, pursuant to 46 CFR 502.5, you must submit the following, by email, to secretary@fmc.gov:

• A transmittal letter that identifies the specific information in the comments for which protection is sought and demonstrates that the information is a trade secret or other confidential research, development, or commercial information.

• A confidential copy of your comments, consisting of the complete filing with a cover page marked “Confidential-Restricted,” and the confidential material clearly marked on each page.

• A public version of your comments with the confidential information excluded. The public version must state “Public Version—confidential materials excluded” on the cover page and on each affected page and must clearly indicate any information withheld.

III. Regulatory Analyses

Regulatory Flexibility Act

The Chairman of the Federal Maritime Commission certifies that this rule will not have a significant economic impact on a substantial number of small entities. The agency is infrequently asked by outside persons or outside organizations to use the agency seal. The rule primarily affects employees of the Federal Maritime Commission.

Congressional Review Act

This rule is not a “major rule” as defined by the Congressional Review Act (5 U.S.C. 801 et seq.). The rule will not result in: (1) An annual effect on the economy of $100,000,000 or more; (2) a major increase in costs or prices; or (3) significant adverse effects on competition, employment, investment, productivity, innovation, or the ability of U.S.-based companies to compete with foreign based companies. 5 U.S.C. 804(2).

Paperwork Reduction Act

This rule does not impose a Collection of Information under the Paperwork Reduction Act.

National Environmental Policy Act

The Commission's regulations categorically exclude certain rulemakings from any requirement to prepare an environmental assessment or an environmental impact statement because they do not increase or decrease air, water or noise pollution or the use of fossil fuels, recyclables, or energy, 46 CFR 504.4. This rule describes the description of the seal of the Federal Maritime Commission and prescribes when the seal can be used. This rulemaking thus falls within 46 CFR 504.4(a).

Executive Order 12988 (Civil Justice Reform)

This rule meets the applicable standards in E.O. 12988, “Civil Justice Reform,” (61 FR 4729, Feb. 7, 1996) to minimize litigation, eliminate ambiguity, and reduce burden.

List of Subjects in 46 CFR Part 501

Seal and insignia.

For the reasons set forth in the preamble, the Commission amends 46 CFR part 501 as follows:

PART 501—THE FEDERAL MARITIME COMMISSION—GENERAL

1. The authority citation for part 501 continues to read as follows:

Authority: 5 U.S.C. 551-557, 701-706, 2903 and 6304; 31 U.S.C. 3721; 41 U.S.C. 414 and 418; 44 U.S.C. 501-520 and 3501-3520; 46 U.S.C. 40101-41309, 42101-42109, 44101-44106, 46101-46108; Pub. L. 89-56, 70 Stat. 195; 5 CFR part 2638; Pub. L. 104-320, 110 Stat. 3870.

2. Add subpart C to read as follows:

Subpart C—Official Seal
Sec.
501.100 Description of official seal.
501.101 Authority to affix seal.
501.102 Use of replicas, reproductions, and embossing seals within the agency.
501.103 Use by outside persons or organizations.
501.104 Penalties.

Authority: 18 U.S.C 506; 18 U.S.C. 701; 18 U.S.C. 1017; 28 U.S.C. 1733(b); 46 U.S.C. 46101(d).

Subpart C—Official Seal

§ 501.100 Description of official seal.

(a) The official seal of the Federal Maritime Commission is described as follows: A shield argent paly of six gules, a chief azure charged with a fouled anchor or; shield and anchor outlined of the third; on a wreath argent and gules, an eagle displayed proper; all on a gold disc within a blue border, encircled by a gold rope outlined in blue, and bearing in white letters the inscription “Federal Maritime Commission” in upper portion and “1961” in lower portion. The monochrome version of the official seal appears in figure 1 to this section.

Figure 1 to § 501.100

(b) The shield and eagle above it are associated with the United States of America and denote the national scope of maritime affairs. The outer rope and fouled anchor are symbolic of seamen and waterborne transportation. The date “1961” has historical significance, indicating the year in which the Commission was created.

(c) The seal shall be judicially recognized in accordance with section 201(c) of the Merchant Marine Act, 1936, as amended (46 U.S.C. 46101(d)).

§ 501.101 Authority to affix seal.

(a) The seal of the Federal Maritime Commission shall be in the custody and control of the Secretary of the Commission.

(b) The Secretary has authority to affix replicas, reproductions, and embossing seals to appropriate documents, certifications, and other material for all purposes as authorized by this subpart, including for the purposes authorized by 28 U.S.C. 1733(b). The Secretary may delegate and authorize redelegations of this authority. The Office of the Secretary shall maintain official records of such delegations and redelegations (and cancellations thereof).

§ 501.102 Use of replicas, reproductions, and embossing seals within the agency.

(a) Replicas and reproductions of the seal of the Federal Maritime Commission may be used only for:

(1) Display in or adjacent to:

(i) Commission facilities, in Commission auditoriums, presentation rooms, hearing rooms, lobbies, and public document rooms.

(ii) Non-Commission facilities in connection with events and displays sponsored by the Commission, or public appearances of a Commissioner or other senior officials designated by the Secretary.

(iii) Offices of Commissioners and senior Commission officials designated by the Secretary.

(2) Official distinguishing flags of the Federal Maritime Commission adopted by the Commission that incorporate the seal.

(3) Official awards, certificates, medals, and plaques.

(4) Motion picture film and other audiovisual media prepared by, or for the Commission with the agency's approval, and attributed thereto.

(5) Official prestige publications which represent the achievements or mission of the Commission.

(6) Stationary, programs, certificates, diplomas, business and calling cards, or signs and invitations of an official nature prepared by, or on behalf of the Commission with the agency's approval.

(7) Official Commission identification cards and security credentials.

(8) Official publications or graphics issued by and attributed to the Commission, or joint statements of the Commission with one or more Federal agencies, State or local governments, Tribal governments, or foreign governments.

(9) Official Commission exhibit displays.

(10) Protocol gifts handed out by a Commissioner or other senior Commission officials designated by the Secretary.

(11) On athletic clothing or equipment with permission of the Commission for official or informational purposes.

(12) Use of the seal within the agency for any purpose other than as prescribed in this section is prohibited, except that the Secretary of Commission may authorize, on a case-by-case basis, use for purposes other than those prescribed when the Secretary, in consultation with the General Counsel, deems such use to be appropriate.

(b) Embossing seals may be used only on:

(1) Commission legal documents, including interagency or intergovernmental agreements, agreements with States, foreign patent applications, and similar documents.

(2) For other such purposes as determined by the General Counsel of the Federal Maritime Commission.

§ 501.103 Use by outside persons or organizations.

(a) Replicas and reproductions of the seal of the Federal Maritime Commission, physical or digital, by persons and organizations outside of the Commission may be made only with the Commission's prior written approval. Persons and organizations outside of the Commission are prohibited from using a Commission embossing seal.

(b) Requests by any person or organization outside of the Commission for permission to use the seal must be made in writing electronically to secretary@fmc.gov. The request must specify in detail the exact use to be made. Any permission granted will apply only to the specific use for which it was granted and is not permission for any other use.

(c) The decision whether to grant such a request is made on a case-by-case basis, with consideration of all relevant factors, which may include: the benefit or cost to the Government of granting the request; the unintended appearance of endorsement or authentication by the Commission; the potential for misuse; the effect upon Commission security; the reputability of the use; the extent of the control by the Commission over the ultimate use; and the extent of control by the Commission over distribution of any products or publications bearing the seal.

(d) Use of the seal shall be for informational purposes. The seal may not be used on any article or in any manner which may discredit the seal or reflect unfavorably upon the Commission, or which implies Commission endorsement of commercial products or services, or of the users' policies or activities. All agreements must benefit the Commission; tie to a key communication or operational objective; and demonstrate the ability for significant impact. The Commission reserves the right to cancel such an agreement at any time. Specifically, permission may not be granted under this section for nonofficial use—

(1) On souvenir or novelty items of an expendable nature;

(2) On toys, gifts, or premiums;

(3) As a non-Commission letterhead design; or

(4) On menus, matchbook covers, calendars, or similar items.

(e) Use of the seal for any purpose other than as prescribed in this section is prohibited, except that the Secretary may authorize the use of the seal by outside individuals or organizations, on a case-by-case basis, for purposes other than those prescribed when the Secretary, in consultation with the General Counsel, deems such use to be appropriate.

§ 501.104 Penalties.

(a) Falsely making, forging, counterfeiting, mutilating, or altering the seal of the Federal Maritime Commission, or knowingly using or possessing with fraudulent intent an altered seal is punishable under 18 U.S.C. 506.

(b) Any person using the seal in a manner inconsistent with the provisions of this subpart is subject to the provisions of 18 U.S.C. 1017, which states penalties for the wrongful use of an agency seal, and other provisions of law as applicable.

(c) Any person using the seal in a manner inconsistent with the provisions of this part is subject to the provisions of 18 U.S.C. 701, which states the penalties for the wrongful use of badges, identification cards, insignia, and other designs prescribed by an agency.

By the Commission.
David Eng,
Secretary.

[FR Doc. 2024-17789 Filed 8-12-24; 8:45 am]

BILLING CODE 6730-02-P